DEPARTMENT OF DEFENSE

Defense Acquisition Regulations System

48 CFR Part 252

[Docket DARS-2024-0025]

RIN 0750-AM20

Defense Federal Acquisition Regulation Supplement: Limitation on Certain Institutes of Higher Education (DFARS Case 2024-D023); Correction

AGENCY: Defense Acquisition Regulations System, Department of Defense (DoD).

ACTION: Correcting amendments.

SUMMARY: DoD is correcting a final rule that published in the Federal Register on August 25, 2025, to correct the provision date in section 252.209-7011.

DATES: Effective August 28, 2025.

FOR FURTHER INFORMATION CONTACT: David Johnson, telephone 202-913-5764.

SUPPLEMENTARY INFORMATION: In the final rule published in the Federal Register at 90 FR 41492 on August 25, 2025, titled Limitation on Certain Institutes of Higher Education, there was an error in the provision date. This document serves to correct the date.

List of Subjects in 48 CFR Part 252

Government procurement.

Accordingly, 48 CFR part 252 is corrected by making the following correcting amendments:

PART 252—SOLICITATION PROVISIONS AND CONTRACT CLAUSES

1. The authority citation for part 252 continues to read as follows:

Authority: 41 U.S.C. 1303 and 48 CFR chapter 1.

2. Revise and republish section 252.209-7011 to read as follows:

252.209-7011 Representation for Restriction on the Use of Certain Institutions of Higher Education.

As prescribed in 209.170-4, use the following provision:

Representation For Restriction On The Use Of Certain Institutions Of Higher Education (AUG 2025)

(a) Definitions. As used in this provision—

Confucius Institute means—

(1) Any program that receives funding or support from—

(i) The Chinese International Education Foundation; or

(ii) The Center for Language Exchange Cooperation of the Ministry of Education of the People's Republic of China; or

(2) Any cultural institute directly or indirectly funded by the government of the People's Republic of China.

Institution of higher education has the meaning given in 20 U.S.C. 1002.

(b) Restriction. As required by section 1062 of the National Defense Authorization Act for Fiscal Year 2021 (Pub. L. 116-283), DoD may not award a contract with any institution of higher education that hosts a Confucius Institute. Section 1062 prohibits DoD from providing funding to any U.S. institution of higher education hosting a Confucius Institute unless that institution receives a waiver from the Department of Defense Office of the Under Secretary of Defense for Research and Engineering (OUSD(R&E)). The waiver authority terminates on October 1, 2026. Any waiver issued will not apply on or after that date. See the OUSD(R&E) Confucius Institute Waiver Program Guidance to U.S. Institutions of Higher Education at https://rt.cto.mil/wp-content/uploads/Confucius-Institute-Waiver-Program-Guidance-28Mar2023.pdf.

(c) Representation. By submission of an offer, the Offeror represents that—

(1) It is not an institution of higher education that hosts a Confucius Institute; or

(2) The Offeror has obtained a waiver approved by OUSD(R&E).

(End of provision)

Jennifer D. Johnson,
Editor/Publisher, Defense Acquisition Regulations System.

[FR Doc. 2025-16518 Filed 8-27-25; 8:45 am]

BILLING CODE 6001-FR-P